DEPARTMENT OF TRANSPORTATION

Federal Aviation Administration

14 CFR Part 97

[Docket No. 30304; Amdt. No. 3001]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference—approved by the Director of the Federal Register on December 31, 1980, and reapproved as of January 1, 1982.

ADDRESSES: Availability of matters incorporated by reference in the amendment is as follows:

For Examination—

1. FAA Rules Docket, FAA Headquarters Building, 800 Independence Avenue, SW., Washington, DC 20591;

2. The FAA Regional Office of the region in which the affected airport is located; or

3. The Flight Inspection Area Office which originated the SIAP.

For Purchase—

Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK 73169 (Mail Address: PO Box 25082 Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers or aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airpots, Navigation (air).

Issued in Washington, DC on April 12, 2002.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 106(g), 40103, 40113, 40120, 44701; and 14 CFR 11.49(b)(2).

§§ 97.23, 97.25, 97.27, 97.29, 97.31, 97.33, and 97.35 [Amended]

1. Part 97 is amended to read as follows:

By amending § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

* * * Effective June 13, 2002

Clinton, AR, Holley Mountain Airpark, RNAV (GPS) RWY 5, Orig

Clinton, AR, Holley Mountain Airpark, RNAV (GPS) RWY 23, Orig

Hope, AR, Hope Muni, VOR/DME RWY 4, Amdt 8

Hope, AR, Hope Muni, RNAV (GPS) RWY 4, Orig

Hope, AR, Hope Muni, RNAV (GPS) RWY 16, Orig

Hope, AR, Hope Muni, GPS RWY 4, Orig, CANCELLED

Hope, AR, Hope Muni, GPS RWY 16, Orig, CANCELLED

Fresno, CA, Fresno Yosemite International, VOR/DME OR TACAN RWY 11L, Orig

Fresno, CA, Fresno Yosemite International, VOR OR TACAN RWY 11L, Amdt 11A, CANCELLED

Los Angeles, CA, Whiteman, VOR-A, Amdt 1A

Los Angeles, CA, Whiteman, RNAV (GPS)-C, Orig

Los Angeles, CA, Whiteman, GPS-B, Orig, CANCELLED

Palm Springs, CA, Bermuda Dunes, VOR-A, Orig

Palm Springs, CA, Bermuda Dunes, VOR OR GPS RWY 28, Orig, CANCELLED

Palm Springs, CA, Bermuda Dunes, RNAV (GPS) RWY 28, Orig

West Palm Beach, FL, Palm Beach Intl, VOR OR GPS RWY 9L, Amdt 2

West Palm Beach, FL, Palm Beach Intl, VOR OR GPS RWY 13, Amdt 3

West Palm Beach, FL, Palm Beach Intl, VOR OR GPS RWY 27R, Amdt 2

West Palm Beach, FL, Palm Beach Intl, VOR OR GPS RWY 31, Amdt 4

West Palm Beach, FL, Palm Beach Intl, NDB RWY 9L, Amdt 20

West Palm Beach, FL, Palm Beach Intl, ILS RWY 9L, Amdt 23

West Palm Beach, FL, Palm Beach Intl, ILS RWY 27R, Amdt 1

Albia, IA, Albia Muni, RNAV (GPS) RWY 31, Orig

Albia, IA, Albia Muni, VOR/DME-A, Amdt 4

Fort Leavenworth, KS, Sherman AAF, RNAV (GPS) RWY 15, Orig

Fort Leavenworth, KS, Sherman AAF, RNAV (GPS) RWY 33, Orig

Fort Leavenworth, KS, Sherman AAF, NDB RWY 33, Amdt 4

Fort Leavenworth, KS, Sherman AAF, GPS RWY 15, Orig

Fort Leavenworth, KS, Sherman AAF, GPS RWY 33, Orig

Presque Isle, ME, Northern Maine Regional Arpt At Presque Isle, VOR RWY 19, Amdt 10

Presque Isle, ME, Northern Maine Regional Arpt At Presque Isle, RNAV (GPS) Y RWY 1, Orig

Presque Isle, ME, Northern Maine Regional Arpt At Presque Isle, RNAV (GPS) Z RWY 1, Orig

Presque Isle, ME, Northern Maine Regional Arpt At Presque Isle, GPS RWY 1, Orig, CANCELLED

Greenville, MI, Greenville Muni, VOR/DME-A, Amdt 2

Greenville, MI, Greenville Muni, RNAV (GPS) RWY 10, Orig

Greenville, MI, Greenville Muni, RNAV (GPS) RWY 28, Orig

Greenville, MI, Greenville Muni, GPS RWY 28, Orig-A, CANCELLED

Dexter, MO, Dexter Muni, RNAV (GPS) RWY 18, Orig

Dexter, MO, Dexter Muni, RNAV (GPS) RWY 36, Orig

Dexter, MO, Dexter Muni, NDB RWY 36, Amdt 1

Dexter, MO, Dexter Muni, VOR/DME RWY 36, Amdt 5

Malden, MO, Malden Muni, RNAV (GPS) RWY 18, Orig

Malden, MO, Malden Muni, RNAV (GPS) RWY 36, Orig

Malden, MO, Malden Muni, RNAV (GPS) RWY 31, Orig

Malden, MO, Malden Muni, VOR/DME RWY 13, Orig

Malden, MO, Malden Muni, VOR RWY 31, Amdt 8

Malden, MO, Malden Muni, VOR/DME RNAV OR GPS RWY 13, Orig-A, CANCELLED

Monroe City, MO, Monroe City Regional, RNAV (GPS) RWY 9, Orig

Monroe City, MO, Monroe City Regional, RNAV (GPS) RWY 27, Orig

Monroe City, MO, Monroe City Regional, VOR/DME-A, Amdt 2

Monroe City, MO, Monroe City Regional, VOR/DME RNAV RWY 27, Amdt 1

Monroe City, MO, Monroe City Regional, GPS RWY 27, Orig

Malta, MT, Malta, RNAV (GPS) RWY 8, Orig

Malta, MT, Malta, RNAV (GPS) RWY 26, Orig

Scobey, MT, Scobey, RNAV (GPS) RWY 12, Orig

Rochester, MN, Rochester International, RNAV (GPS) RWY 2, Orig

Rochester, MN, Rochester International, VOR RWY 2, Amdt 17

St. Paul, MN, Lake Elmo Airport, NDB RWY 4, Amdt 4

St. Paul, MN, Lake Elmo Airport, RNAV (GPS) RWY 32, Orig

St. Paul, MN, Lake Elmo Airport, GPS RWY 32, Orig-A, CANCELLED

Walhalla, ND, Walhalla, RNAV (GPS) RWY 33, Orig

Grant, NE, Grant Muni, RNAV (GPS) RWY 15, Orig

Grant, NE, Grant Muni, RNAV (GPS) RWY 33, Orig

Grant, NE, Grant Muni, NDB RWY 15, Amdt 3

Grant, NE, Grant Muni, NDB RWY 33, Amdt 3

Grant, NE, Grant Muni, VOR/DME RWY 15, Orig

Akron, NY, Akron, VOR OR GPS RWY 7, Amdt 3, CANCELLED

Akron, NY, Akron, VOR/DME OR GPS RWY 25, Amdt 4, CANCELLED

Akron, NY, Akron, RNAV (GPS) RWY 7, Orig

Akron, NY, Akron, RNAV (GPS) RWY 25, Orig

South Bethlehem, NY, South Albany, RNAV (GPS) RWY 1, Orig

South Bethlehem, NY, South Albany, RNAV (GPS) RWY 19, Orig

Canandaigua, NY, Canandaigua, RNAV (GPS) RWY 13, Orig

Canandaigua, NY, Canandaigua, GPS RWY 13, Orig, CANCELLED

Penn Yan, NY, Penn Yan, RNAV (GPS) RWY 1, Orig

Penn Yan, NY, Penn Yan, RNAV (GPS) RWY 19, Orig

Penn Yan, NY, Penn Yan, GPS RWY 1, Orig, CANCELLED

Penn Yan, NY, Penn Yan, GPS RWY 19, Orig, CANCELLED

Chillicothe, OH, Ross County, RNAV (GPS) RWY 23, Orig

Chillicothe, OH, Ross County, GPS RWY 23, Orig, CANCELLED

Clearfield, PA, Clearfield-Lawrence, VOR RWY 30, Amdt 6

Clearfield, PA, Clearfield-Lawrence, RNAV (GPS) RWY 30, Orig

Clearfield, PA, Clearfield-Lawrence, GPS RWY 30, Orig, CANCELLED

Sterling, PA, Spring Hill, VOR-B, Orig

Barnwell, SC, Barnwell County, RNAV (GPS) RWY 16, Orig

Barnwell, SC, Barnwell County, NDB-A, Amdt 1

Barnwell, SC, Barnwell County, NDB RWY 4, Amdt 2

Clemson, SC, Oconee County Regional, GPS RWY 25, Orig, CANCELLED

Clemson, SC, Oconee County Regional, NDB OR GPS-A, Amdt 5B, CANCELLED

Clemson, SC, Oconee County Regional, RNAV (GPS) RWY 7, Orig

Clemson, SC, Oconee County Regional, RNAV (GPS) RWY 25, Orig

Clemson, SC, Oconee County Regional, NDB RWY 25, Orig

Clemson, SC, Oconee County Regional, GPS RWY 7, Orig-A, CANCELLED

Eagle Butte, SD, Cheyenne Eagle Butte, RNAV (GPS) RWY 31, Orig

Eagle Butte, SD, Cheyenne Eagle Butte, GPS RWY 31, Amdt 1, CANCELLED

Huron, SD, Huron Regional, LOC/DME BC RWY 30, Amdt 12

Huron, SD, Huron Regional, RNAV (GPS) RWY 30, Orig

Pierre, SD, Pierre Regional, VOR or TACAN RWY 25, Orig

Pierre, SD, Pierre Regional, VOR/DME or TACAN or GPS RWY 25, Amdt 16A CANCELLED

Pierre, SD, Pierre Regional, VOR/DME or TACAN RWY 7, Amdt 4C

Pierre, SD, Pierre Regional, RNAV (GPS) RWY 7, Orig

Pierre, SD, Pierre Regional, RNAV (GPS) RWY 25, Orig

Dickson, TN, Dickson Muni, RNAV (GPS) RWY 17, Orig

Manassas, VA, Manassas Regional/Harry P. Davis Field, NDB OR GPS-A, Amdt 8C, CANCELLED

Norfolk, VA, Norfolk Intl, NDB/DME RWY 23, Orig

Norfolk, VA, Norfolk Intl, NDB/DME OR GPS RWY 23, Orig-B, CANCELLED

Norfolk, VA, Norfolk Intl, RNAV (GPS) RWY 5, Orig

Friendship (Adams), WI, Adams County Legion Field, RNAV (GPS) RWY 33, Orig

Friendship (Adams), WI, Adams County Legion Field, GPS RWY 33, Orig-A CANCELLED

Parkersburg, WV, Wood County Airport-Gill Robb Wilson Field, VOR RWY 21, Amdt 16

Parkersburg, WV, Wood County Airport-Gill Robb Wilson Field, RNAV (GPS) Y RWY 3, Orig

Parkersburg, WV, Wood County Airport-Gill Robb Wilson Field, RNAV (GPS) Z RWY 3, Orig

Parkersburg, WV, Wood County Airport-Gill Robb Wilson Field, RNAV (GPS) Y RWY 21, Orig

Parkersburg, WV, Wood County Airport-Gill Robb Wilson Field, RNAV (GPS) Z RWY 21, Orig

[FR Doc. 02-9849 Filed 4-22-02; 8:45 am]

BILLING CODE 4910-13-M